DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention (CSAP) Drug Testing Advisory Board (DTAB) will convene via web conference on June 8th, 2021, from 10:00 a.m. EDT to 4:30 p.m. EDT.

The board will meet in closed-session on June 8th, 2021, from 10:00 a.m. EDT to 4:30 p.m. EDT, to review and discuss draft revisions to the proposed Mandatory Guidelines for Federal Workplace Drug Testing Programs (hair) that have not been made public by the Department of Health and Human Services. Therefore, the June 8th, 2021, from 10:00 a.m. EDT to 4:30 p.m. EDT, meeting is closed to the public, as determined by the Acting Assistant Secretary for Mental Health and Substance Use, SAMHSA, in accordance with 5 U.S.C. 552b(9)(B) and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Jennifer Fan.

Committee Name: Substance Abuse and Mental Health Services Administration, Center for Substance Abuse Prevention, Drug Testing Advisory Board.

Dates/Time/Type: June 8, 2021, from 10:00 a.m. to 4:30 p.m. EDT: CLOSED.

Place: Substance Abuse and Mental Health Services Administration, 5600 Fishers Lane, Rockville, MD 20857.

Contact: Jennifer Fan, Senior Pharmacist, Center for Substance Abuse Prevention, 5600 Fishers Lane, Room 16N06D, Rockville, Maryland 20857, Telephone: (240) 276-1759, Email: jennifer.fan@samhsa.hhs.gov.

Anastasia Marie Donovan,
Policy Anayst.

[FR Doc. 2021-10778 Filed 5-20-21; 8:45 am]

BILLING CODE 4162-20-P